DEPARTMENT OF TRANSPORTATION

Office of the Secretary

[Docket No. DOT-OST-2010-0076]

Agency Request for Emergency Approval of an Information Collection

AGENCY: Office of the Secretary (OST), DOT.

ACTION: Notice and request for comments.

SUMMARY: The Department of Transportation (DOT) provides notice that it will submit an information collection request (ICR) to the Office of Management and Budget (OMB) for emergency approval of a proposed information collection under the Paperwork Reduction Act of 1995 (Pub. L. 104-13, 44 U.S.C. 3501 et seq.). Upon receiving the requested six-month emergency approval by OMB, OST will follow the normal, 6 month PRA procedures to obtain extended approval for this proposed information collection. This collection involves the National Infrastructure Investments Grant Program or “TIGER II Discretionary Grants” pursuant to Title I of the Transportation, Housing and Urban Development, and Related Agencies Appropriations Act for 2010 (Div. A of the Consolidated Appropriations Act, 2010 (Pub. L. 111-117, Dec. 16, 2009)) (“FY 2010 Appropriations Act”). Title I established a new program for OST to provide Supplemental Discretionary Grants for National Infrastructure Investments. OST is referring to these grants as TIGER II Discretionary Grants which include promoting economic recovery and supporting projects that have a significant impact on the Nation, Metropolitan area or a region.

The information to be collected is necessary in order to receive and evaluate applications for grant funds pursuant to the FY 2010 Appropriations Act.

The announcement of grant awards may not be made before September 15, 2010, and OST anticipates awarding grants as soon as possible thereafter. Information related to this ICR, including applicable supporting documentation may be obtained by contacting Robert Mariner, Office of the Assistant Secretary for Transportation Policy, at (202) 366-8914 or Robert.Mariner@dot.gov.

DATES: Comments should be submitted as soon as possible upon publication of this notice in the Federal Register. Comments and questions should be directed to the Office of Information and Regulatory Affairs (OIRA), Attn: OST OMB Desk Officer, 725 17th Street, NW., Washington, DC 20503. Comments and questions about the ICR identified below may be transmitted electronically to OIRA at oira_submissions@omb.eop.gov.

SUPPLEMENTARY INFORMATION:

OMB Control Number: 2105-New.

Title: National Infrastructure Investments.

Form Numbers: None.

Type of Review: Emergency information collection request.

Expected Number of Respondents: 1,500.

Frequency: One time collection.

Estimated Average Burden per Response: 100 hours.

Estimated Total Annual Burden: 150,000 hours.

Abstract: On December 16, 2009, the President of the United States signed the Transportation, Housing and Urban Development, and Related Agencies Appropriations Act for 2010 (Div. A of the Consolidated Appropriations Act, 2010 (Pub. L. 111-117, Dec. 16, 2009)) (“FY 2010 Appropriations Act”) which appropriated $600 million to be awarded for National Infrastructure Investments or “TIGER II Discretionary Grants.” Funds for the TIGER II Discretionary Grant Program are to be awarded on a competitive basis for projects that will have a significant impact on the Nation, Metropolitan area or a region.

On April 26, 2010, the Department published an interim notice announcing the availability of funding for TIGER II Discretionary Grants, project selection criteria, pre-application requirements, application requirements and the deadline for submitting pre-applications is no later than July 16, 2010, and final applications no later than August 23, 2010. OST will begin accepting grant applications on July 30, 2010 through Grants.gov upon approval from OMB.

Authority: The Paperwork Reduction Act of 1995; 44 U.S.C. Chapter 35, as amended; and 49 CFR 1:48.

Roy Kienitz,
Under Secretary for Transportation Policy.

[FR Doc. 2010-12513 Filed 5-24-10; 8:45 am]

BILLING CODE 4910-9X-P